CORPORATION FOR NATIONAL AND COMMUNITY SERVICE

Sunshine Act Meeting Notice

The Board of Directors of the Corporation for National and Community Service gives notice of the following meeting:

DATE AND TIME: Wednesday, September 29, 2010, 11 a.m.-12:30 p.m.

PLACE: Corporation for National and Community Service, 1201 New York Avenue, NW., Suite 8312, Washington, DC 20525 (Please go to 10th floor reception area for escort).

CALL-IN INFORMATION: This meeting is available to the public through the following toll-free call-in number: 800-369-1155 conference call access code number 76988. Any interested member of the public may call this number and listen to the meeting. Callers can expect to incur charges for calls they initiate over wireless lines, and the Corporation will not refund any incurred charges. Callers will incur no charge for calls they initiate over land-line connections to the toll-free telephone number. Replays are generally available one hour after a call ends. The toll-free phone number for the replay is 888-568-0542. The end replay date: October 19, 10:59 PM (CT).

Status: Open.

Matters To Be Considered

I. Chair's Opening Comments.

II. Consideration of Previous Meeting's Minutes.

III. CEO Report.

IV. Committee Reports:

a. Oversight, Governance and Audit Committee.

b. External Relations Committee.

c. Program, Budget and Evaluation Committee.

V. Review of Strategy Brief.

VI. Public Comments.

The Board will consider public comments on a Strategy Brief for the agency's 2011-2015 Strategic Plan. As of September 22, the Strategy Brief can be found here: http://www.nationalservice.gov/about/focus_areas/index.asp along with instructions for how to submit written comments for the Board to consider. Written comments must be received by 5 p.m. on Friday September 24th. Members of the public who are attending the meeting in person may also make comments for the Board to consider. Individuals who would like to speak will be asked to sign-in upon arrival.

Reasonable Accommodations: The Corporation for National and Community Service provides reasonable accommodations to individuals with disabilities where appropriate. Anyone who needs an interpreter or other accommodation should notify Ida Green at igreen@cns.gov or 202-606-6861 by 5 p.m., September 24, 2010.

CONTACT PERSON FOR MORE INFORMATION: Emily Samose, Office of the CEO, Corporation for National and Community Service, 9th Floor, Room 9613C, 1201 New York Avenue, NW., Washington, DC 20525. Phone (202) 606-7564. Fax (202) 606-3460. TDD: (202) 606-3472. E-mail: esamose@cns.gov.

Dated: September 21, 2010.
Wilsie Y. Minor,
Acting General Counsel.

[FR Doc. 2010-24009 Filed 9-21-10; 4:15 pm]

BILLING CODE 6050-$$-P